DEPARTMENT OF HEALTH AND HUMAN SERVICES

National Institutes of Health

National Institute on Drug Abuse Draft Strategic Plan

AGENCY: National Institute on Drug Abuse, NIH, HHS.

ACTION: Notice.

SUMMARY: The National Institute on Drug Abuse (NIDA) is developing a strategic plan for the next 5 years, and invites the public to provide comments on a draft of this plan. The draft plan will be publicly available through the NIDA Draft Strategic Plan Web page (http://www.drugabuse.gov/StrategicPlan/Index.html) for 30 days from the publication of this Notice. The public is invited to provide comments via the e-mail address or the postal address listed on the NIDA Draft Strategic Plan Web page.

Background: NIDA is the lead Federal agency for research on drug abuse and addiction. For the past three decades, NIDA has led the way in supporting research to prevent and treat drug abuse and addiction and mitigate the impact of their consequences—particularly the spread of HIV/AIDS and other infectious diseases. Given recent revolutionary advances in drug abuse research, NIDA has recently undergone a strategic planning process gathering recommendations from the National Advisory Council on Drug Abuse and from ongoing dialogue with our various stakeholder groups to establish achievable goals and objectives for the future.

NIDA's draft Strategic Plan outlines four major goal areas—Prevention, Treatment, HIV/AIDS, and Cross Cutting Priorities—each with Strategic Objectives that will guide NIDA's research agenda for the future. The public is invited to review this draft plan and provide comments. The draft plan may be viewed at http://www.drugabuse.gov/StrategicPlan/Index.html, and hard copies are available by calling 301-443-1124 or by sending a letter requesting a copy (that includes your mailing address) to: National Institute on Drug Abuse, Attn: Draft Strategic Plan, 6001 Executive Blvd., Suite 5213, MSC 9561, Bethesda, MD 20892-9561.

Request for Comments: The public is invited to provide comments on the draft Strategic Plan. Comments may be sent to the email address listed on the NIDA Strategic Planning Web page at http://www.drugabuse.gov/StrategicPlan/Index.html, or to the postal address listed above.

Comments Due Date: Comments regarding NIDA's draft Strategic Plan should be submitted via e-mail to stratplan@nida.nih.gov no later than 30 days after the publication of this Notice. Comments mailed to the above postal address must be postmarked by the same date.

Dated: December 21, 2007.
Nora D. Volkow,
Director, National Institute on Drug Abuse, National Institutes of Health.

[FR Doc. E7-25521 Filed 1-4-08; 11:28 am]

BILLING CODE 4140-01-P